DEPARTMENT OF TRANSPORTATION

Coast Guard

33 CFR Part 110

[CGD11-99-008]

RIN 2115-AA98

Anchorage Regulation; Los Angeles-Long Beach Harbors, CA

AGENCY: Coast Guard, DOT.

ACTION: Final rule.

SUMMARY: The Coast Guard is revising the anchorage ground regulations for Los Angeles and Long Beach Harbors. The regulations have been reorganized to improve readability and to update references to other sections of the Code of Federal Regulations. Additionally, construction activity in the port complex has resulted in the creation of landfills in some areas previously designated as anchorages. This proposal eliminates or reconfigures these anchorages to conform to changes in the geography of the harbors. Finally, the Coast Guard is imposing additional notification and operating requirements on some vessels in order to ensure the safety of the port complex.

EFFECTIVE DATE: This final rule is effective on March 30, 2000.

ADDRESSES: Documents as indicated in this preamble are available for inspection and copying at Coast Guard Marine Safety Office, Los Angeles-Long Beach, 165 N. Pico Ave., Long Beach, CA 90802. Normal office hours are between 7:30 a.m. and 4 p.m., Monday through Friday, except holidays.

FOR FURTHER INFORMATION CONTACT: Lieutenant Rob Coller, Chief, Waterways Management Division, Marine Safety Office, Los Angeles-Long Beach, telephone (562) 980-4426.

SUPPLEMENTARY INFORMATION:

Regulatory History

On July 15, 1999, the Coast Guard published a Notice of Proposed Rulemaking (NPRM) for this regulation in the Federal Register (64 FR 38166). The comment period ended on September 13, 1999. The Coast Guard received no comments on the proposal. A public hearing was not requested and no hearing was held.

Background and Purpose

The Coast Guard is modifying the anchorage regulations for Los Angeles-Long Beach Harbors in 33 CFR 110.214. The regulations reconfigure the anchorages to accommodate changed geographic conditions and incorporate appropriate safety standards where necessary to ensure safe navigation.

The regulations are rewritten so that paragraph (a) discusses general requirements relating to all anchorages in this section, including those activities which require Captain of the Port (COTP) permits under the various regulations enforced by the COTP. Paragraph (b) describes only the physical location of each anchorage; the designation of “non-anchorage” areas has been eliminated because the general requirement that vessels may not anchor anywhere outside of designated anchorage areas makes the designation of “non-anchorage” areas redundant and confusing. Paragraph (c) describes specific requirements applicable to individual anchorages, and has been placed in table format. Paragraph (d) describes explosives anchorage requirements.

The regulations eliminate or reconfigure several anchorages to reflect completed and ongoing construction of new facilities in the port complex.

Existing commercial anchorage area “A” is eliminated by the regulations. As part of the Port of Los Angeles Pier 400 expansion project, this existing anchorage has been replaced by a shallow water habitat area, which is unsuitable as a commercial vessel anchorage. A new commercial anchorage area “A” is established within a portion of the former commercial anchorage “C”.

Former commercial anchorages “B” and “C” are also affected by the Pier 400 construction project. The Pier 400 facility will occupy much of these former anchorage areas, eliminating entirely those portions of these anchorages within the Port of Los Angeles boundaries. New anchorage area “B” is located entirely within the southwestern portion of the Port of Long Beach, replacing former anchorage “C” and naval anchorage “J”. Naval anchorage “J” is eliminated. Anchorage “C” is moved from its present location to a new location in the northeast portion of the Port of Long Beach.

Former commercial anchorage “D” and naval anchorage “K” are consolidated into a new commercial anchorage “D”.

Although naval anchorages “J” and “K” are eliminated (becoming part of the reconfigured “B” and “D” commercial anchorages, respectively), the Department of Defense will retain priority for using the eastern portion of proposed anchorage “D”.

The boundary of anchorage “E” is adjusted as a result of a breakwater constructed in the Port of Long Beach adjacent to Pier J. This breakwater reduced the area suitable for anchoring as it extends into existing anchorage “E” and if left unchanged would make it difficult for vessels to enter or depart the Pier J facility when vessels were anchored there. Accordingly, anchorage “E” is modified to allow vessels an unobstructed passage when entering or departing the terminal at Pier J. Anchorage area “E” is also subdivided with the western portion of existing anchorage “E” retaining this designation and the eastern portion of anchorage “E” is slightly re-configured and renamed as Anchorage “C”.

The northern boundary of General Anchorage “N” is adjusted due to the establishment of small vessel slips in the northern portion of the anchorage. These slips provide the opportunity to moor to a dock instead of anchoring.

General Anchorage Area “O” is eliminated by the regulations. This area is being filled and is not currently used as an anchorage.

Boundaries for the explosives anchorage and existing anchorages “F” and “G” will not change. Finally, this rulemaking does not affect Anchorage Area “A-2” which is established as a special anchorage area as described in 33 CFR 110.100.

Although several anchorages are eliminated or reconfigured by the regulations, a sufficient number of anchorages are believed available to meet both current and anticipated future needs of the port complex. Importantly, the construction of terminals and/or landfills in U.S. navigable waters was the subject of a separate permit process administered by the U.S. Army Corps of Engineers. These anchorage areas are designed to most effectively meet the demands of vessels desiring to anchor within Los Angeles and Long Beach Harbors.

Finally, certain outdated practices and procedures are eliminated or changed and new procedures to better ensure the safety of navigation and the protection of the environment are added. The regulations also conform to the current definitions of explosives, cargoes of particular hazard and certain dangerous cargoes, which have been revised in other sections of 33 CFR. Requirements to obtain permits for certain activities such as the handling or carriage of explosives, and extended anchorage stays are all explicitly detailed. Watchkeeping and other general requirements pertinent to commercial vessels at anchorage are set forth in section (a). Additionally, some activities such as bunkering and lightering are permissible only in specified anchorage locations and are prohibited in others. These are outlined in section (c), which discusses requirements and procedures which vary from anchorage to anchorage.

Discussion of Comments

No comments were received.

Regulatory Evaluation

This regulation is not a significant regulatory action under section 3(f) of Executive Order 12866 and does not require an assessment of potential costs and benefits under section 6(a)(3) of that Order. It has been exempted from review by the Office of Management and Budget under that Order. It is not significant under the regulatory policies and procedures of the Department of Transportation (DOT) (44 FR 11040, February 26, 1979). The Coast Guard expects the economic impact of this proposal to be so minimal that a full Regulatory Evaluation under paragraph 10(e) of the regulatory policies and procedures of Department of Transportation is unnecessary.

This regulation makes substantive changes in anchorage designations to conform to the changed geography of the harbor and to best make use of available water. Some of the designated procedures reflect various additions to, and changes in, existing regulatory requirements; however, they are all implemented in the interest of safe navigation and protection of the port complex, and most of the mariners affected already practice these procedures as a matter of prudent seamanship.

Small Entities

Under 5 U.S.C. 601 et seq., the Coast Guard must consider whether this regulation would have significant impact on a substantial number of small entities. “Small entities” include small businesses, not-for-profit organizations that are not dominant in their fields, and governmental jurisdictions with populations less than 50,000. For the reasons set forth in the Regulatory Evaluation, the Coast Guard certifies under 5 U.S.C. 605(b) that this rule will not have a significant economic impact on a substantial number of small entities.

Assistance for Small Entities

In accordance with section 213(a) of the Small Business Regulatory Enforcement Fairness Act of 1996 (Pub. L. 104-121), the Coast Guard wants to assist small entities in understanding this rule so that they can better evaluate its effects on them and participate in the rulemaking process. If your small business or organization is affected by this rule and you have questions concerning its provisions or options for compliance, please contact Lieutenant Rob Coller at the address listed in ADDRESSES above.

Collection of Information

This rule contains no collection of information requirements under the Paperwork Reduction Act (44 U.S.C. 3501 et seq.).

Federalism

We have analyzed this rule under Executive Order 13132 and have determined that this rule does not have implications for federalism under that Order.

Environment

The Coast Guard has considered the environmental impact of this regulation and concluded that, under figure 2-1, paragraph 34(f) of Commandant Instruction M16475.1C, it will have no significant environmental impact and it is categorically excluded from further environmental documentation. A Categorical Exclusion Determination and Environmental Analysis Checklist will be available for inspection and copying in the docket to be maintained at the address listed in ADDRESSES.

Unfunded Mandates

Under the Unfunded Mandates Reform Act of 1995 (Pub. L. 104-4), the Coast Guard must consider whether this rule will result in an annual expenditure by state, local, and tribal governments, in the aggregate of $100 million (adjusted annually for inflation). If so, the Act requires that a reasonable number of regulatory alternatives be considered, and that from those alternatives, the least costly, most cost-effective, or least burdensome alternative that achieves the objective of the rule be selected.

No state, local, or tribal government entities will be affected by this rule, so this rule will not result in annual or aggregate costs of $100 million or more. Therefore, the Coast Guard is exempt from any further regulatory requirements under the Unfunded Mandates Act.

Taking of Private Property

This rule will not effect a taking of private property or otherwise have taking implications under E.O. 12630, Governmental Actions and Interference with Constitutionally Protected Property Rights.

Civil Justice Reform

This Rule meets applicable standards in section 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

List of Subjects in 33 CFR Part 110

Anchorage grounds.

Regulation

For the reasons set out in the preamble, the Coast Guard amends Subpart B of Part 110, Title 33, Code of Federal Regulations, as follows:

PART 110—[AMENDED]

1. The authority citation for part 110 continues to read as follows:

Authority: 33 U.S.C. 471, 1221 through 1236, 2030, 2035, and 2071; 49 CFR 1.46; and 33 CFR 1.05-1(g).

2. Section 110.214 is revised to read as follows:

§ 110.214 Los Angeles and Long Beach harbors, California.

(a) General Regulations.

(1) Anchorage Assignment. (i) Unless otherwise directed by the Captain of the Port Los Angeles-Long Beach, the pilot stations for the Port of Long Beach and the Port of Los Angeles will assign the use of commercial anchorages within their jurisdictions (Long Beach and Los Angeles Harbors respectively). All anchorages outside (seaward) of the federal breakwater will be assigned by the Los Angeles-Long Beach Vessel Traffic Information Service (VTIS). The master, pilot, or person in charge of a vessel must notify the appropriate pilot station (for anchorages inside the federal breakwater) or the VTIS (for anchorages outside the federal breakwater) of their intention to anchor, upon anchoring, and at least fifteen minutes prior to departing an anchorage. All anchorage assignments will be made as described in this part unless modified by the Captain of the Port.

(ii) Radio communications for port entities governing anchorages are as follows: Los Angeles-Long Beach Vessel Traffic Information Service, call sign “LA-Long Beach Traffic,” Channel 14 VHF-FM; Los Angeles Port Pilots, Channel 73 VHF-FM; Long Beach Port Pilots, Channel 74 VHF-FM.

(iii) The exact boundary separating the Port of Long Beach from the Port of Los Angeles is published in local Port Tariffs. For purposes of this rule, Long Beach waters are those east, and Los Angeles waters are those west, of the following locations:

(A) Inner Harbor: The Henry Ford (Badger Avenue) Bridge.

(B) Middle Harbor: The Pier 400 Transportation Corridor.

(C) Outer Harbor: The western boundary of Commercial Anchorage B.

(2) Required approvals, permits and notifications.

(i) No vessel may anchor anywhere within Los Angeles or Long Beach harbors for more than 10 consecutive days unless an extended anchorage permit is obtained from the Captain of the Port. In determining whether an extended anchorage permit will be granted, consideration will be given, but not necessarily limited to: the current and anticipated demands for anchorage space within the harbor, the duration requested, the condition of the vessel, and the reason for the request.

(ii) No vessel while carrying, loading, or unloading division 1.1 or 1.2 materials as defined in 49 CFR 173.50, or Cargoes of Particular Hazard (COPH) as defined in 33 CFR 126.10, or Certain Dangerous Cargoes (CDC) as defined in 33 CFR 160.203, may anchor without first obtaining a permit issued by the Captain of the Port.

(iii) Vessels requiring use of an explosives anchorage should contact the Captain of the Port at least 24 hours prior to the anticipated need for the explosives anchorage to allow for proper activation of that anchorage.

(iv) Except with the prior approval of the Captain of the Port, or, in the case of an emergency, with approval of the Captain of the Port immediately subsequent to anchoring, no commercial vessel greater than 1600 gross tons may anchor in Los Angeles-Long Beach Harbor unless it maintains the capability to get underway within 30 minutes. Any vessel unable to meet this requirement must immediately notify the Captain of the Port and make arrangements for an adequate number of tugs to respond to the vessel within 30 minutes notice.

(v) In anchorages where lightering is authorized, the Captain of the Port must be notified at least 4 hours in advance of a vessel conducting lightering operations (see 33 CFR 156.118).

(3) Other General Requirements.

(i) When at anchor, all commercial vessels greater than 1600 gross tons shall, at all times, have a licensed deck officer on watch and maintain a continuous radio listening watch unless subject to one of the exemptions in this paragraph. The radio watch must be on CH-13 VHF-FM when anchored inside the federal breakwater, and on CH-14 VHF-FM or on CH-16 VHF-FM when anchored outside the federal breakwater, except for unmanned barges; vessels which have less than 100 gallons of oil or fuel onboard regardless of how the fuel is carried; and other vessels receiving advance approval from the Captain of the Port.

(ii) When sustained wind speeds exceed 40 knots, all anchored commercial vessels greater than 1600 gross tons shall ensure their propulsion plant is placed in immediate standby and a second anchor is made ready to let go. Vessels unable to comply with this requirement must immediately notify the Captain of the Port. In such case, the Captain of the Port may require the vessel to have one or more tugs standing by to render immediate assistance.

(4) Prohibitions. Within Los Angeles Harbor, Long Beach Harbor, and the Los Angeles-Long Beach Precautionary Area, except for emergency reasons, or with the prior approval of the Captain of the Port, vessels are prohibited from anchoring outside of designated anchorage areas. In the event a vessel anchors outside a designated anchorage area for emergency reasons, the master, pilot, or person in charge of the vessel shall:

(i) Position the vessel so as to minimize the danger to other vessels and facilities;

(ii) Immediately notify the Captain of the Port by the most expeditious means of the vessel's location and the reason(s) for the emergency anchoring; and

(iii) Move the vessel as soon as the emergency condition prompting anchoring outside a designated area abates, or as soon as ordered to move by the Captain of the Port, whichever occurs sooner.

(5) Exemption from rules. The Captain of the Port may, upon request, or whenever he/she deems appropriate, authorize a deviation from any rule in this section.

(b) The anchorage grounds. Locations of anchorage grounds are as described in this section. Specific requirements for individual anchorages are contained in paragraphs (c) and (d) of this section. All coordinates referenced use datum: NAD 83.

(1) Commercial Anchorage A (Los Angeles Harbor). A circular area with a radius of 400 yards (approximately 366 meters), centered in position 33°-43′′-19.2′′N, 118°-14′-18.5′′W.

(2) Commercial Anchorage B (Long Beach Harbor). An area enclosed by a line joining the following coordinates:

| Latitude | Longitude
Beginning point | 33°-44′-37.0″N | 118°-13′-00.0″W
Thence south/southeast to | 33°-44′-12.0″N | 118°-12′-36.2″W
Thence southeast to | 33°-43′-38.2″N | 118°-11′-36.9″W
Thence southwest to | 33°-43′-26.1″N | 118°-11′-47.2″W
Thence west to | 33°-43′-26.1″N | 118°-12′-22.7″W
Thence west/southwest to | 33°-42′-58.9″N | 118°-13′-53.0″W
Thence north/northwest to | 33°-44′-15.3″N | 118°-14′-26.6″W
Thence northeast to | 33°-44′-25.1″N | 118°-14′-15.6″W
Thence southeast to | 33°-44′-22.8″N | 118°-13′-51.0″W
Thence east/northeast to the beginning point.

(3) Commercial Anchorage C (Long Beach Harbor). An area enclosed by a line joining the following coordinates:

| Latitude | Longitude
Beginning point | 33°-44′-20.0″N | 118°-08′-26.2″W
Thence west to | 33°-44′-23.5″N | 118°-09′-32.6″W
Thence north to | 33°-44′-52.8″N | 118°-09′-33.2″W
Thence southeast to | 33°-44′-25.2″N | 118°-08′-26.2″W
Thence south to the beginning point.

(4) Commercial Anchorage D (Long Beach Harbor). An area enclosed by a line beginning near the east end of the Long Beach Breakwater and joining the following coordinates:

| Latitude | Longitude
Beginning point | 33°-43′-27.2″N | 118°-08′-12.6″W
Thence west to | 33°-43′-27.2″N | 118°-10′-46.5″W
Thence north to | 33°-43′-51.0″N | 118°-10′-46.5″W
Thence northeast to | 33°-44′-18.5″N | 118°-10′-27.2″W
Thence east to | 33°-44′-18.5″N | 118°-08′-12.6″W
Thence south to the beginning point.

(5) Commercial Anchorage E (Long Beach Harbor). An area enclosed by a line joining the following coordinates:

| Latitude | Longitude
Beginning point | 33°-44′-55.3″N | 118°-09′-40.2″W
Thence southwest to | 33°-44′-18.5″N | 118°-09′-56.8″W
Thence west to | 33°-44′-18.5″N | 118°-10′-27.2″W
Thence northwest to | 33°-44′-27.6″N | 118°-10′-41.0″W
Thence west/northwest to | 33°-44′-29.0″N | 118°-10′-57.4″W
Thence north/northwest to | 33°-45′-06.4″N | 118°-11′-09.5″W
Thence northeast to | 33°-45′-15.2″N | 118°-10′-46.1″W
Thence southeast to the beginning point.

(6) Commercial Anchorage F (outside of Long Beach Breakwater). The waters southeast of the Long Beach Breakwater bounded by a line connecting the following coordinates:

| Latitude | Longitude
Beginning point | 33°-43′-05.1″N | 118°-07′-59.0″W
Thence west to | 33°-43′-05.1″N | 118°-10′-36.5″W
Thence south/southeast to | 33°-40′-23.0″N | 118°-08′-35.3″W
Thence east to | 33°-40′-23.0″N | 118°-06′-03.0″W
And thence north/northwest to the beginning point.

(7) Commercial Anchorage G (outside of the Middle Breakwater). The waters south of the Middle Breakwater bounded by a line connecting the following coordinates:

| Latitude | Longitude
Beginning point | 33°-43′-05.4″N | 118°-11′-18.0″W
Thence west to | 33°-43′-05.4″N | 118°-12′-18.7″W
Thence west/southwest to | 33°-42′-25.9″N | 118°-14′-19.2″W
Thence southeast to | 33°-41′-40.3″N | 118°-13′-05.2″W
Thence east/northeast to | 33°-42′-08.8″N | 118°-11′-36.8″W
And thence north/northeast to the beginning point.

(8) General Anchorage N (Los Angeles Harbor). The waters near Cabrillo Beach shoreward of a line connecting the following coordinates:

| Latitude | Longitude
| 33°-42′-55.9″N | 118°-16′-44.4″W
| 33°-42′-26.8″N | 118°-16′-33.9″W

(9) General Anchorage P (Long Beach Harbor).The waters within an area beginning at Alamitos Bay West Jetty Light “1” and connecting the following coordinates:

| Latitude | Longitude
Beginning point | 33°-44′-14.5″N | 118°-07′-19.2″W
Thence northwest to | 33°-44′-20.6″N | 118°-07′-31.7″W
Thence northwest | 33°-45′-06.5″N | 118°-09′-34.0″W
Thence along the eastern shoreline of Island White to the lighted marker at | 33°-45′-13.5″N | 118°-09′-34.0″W
Thence northwest to | 33°-45′-37.1″N | 118°-10′-38.5″W
Thence north/northwest to | 33°-45′-49.4″N | 118°-10′-38.8″W
And thence east/southeast along the Long Beach shoreline and the Alamitos Bay West Jetty to the beginning point.

(10) General Anchorage Q (Long Beach Harbor/Alamitos Bay/Anaheim Bay). The waters within an area described as follows:

| Latitude | Longitude
Beginning point | 33°-44′-36.0″N | 118°-08′-13.0″W
Thence east/southeast to | 33°-44′-20.6″N | 118°-07′-31.7″W
Thence along a line described as an arc, radius of 460 meters (approximately 1509 feet) centered on | 33°-44′-12.5″N | 118°-07′-16.5″W
To | 33°-44′-04.8″N | 118°-07′-01.0″W
Thence northwest to | 33°-44′-11.1″N | 118°-07′-13.0″W
Thence north/northeast to | 33°-44′-24.0″N | 118°-07′-04.1″W
Thence east/southeast to | 33°-44′-22.5″N | 118°-06′-57.0″W
Thence along the shoreline of Seal Beach and Anaheim Bay W. Jetty to | 33°-43′-39.1″N | 118°-06′-06.8″W
Thence west/southwest to | 33°-43′-27.8″N | 118°-07′-39.9″W
Thence northwest to | 33°-43′-38.4″N | 118°-07′-48.2″W
Thence west to | 33°-43′-38.4″N | 118°-08′-12.9″W
and thence north to the beginning point.

(11) Explosives Anchorage (Long Beach Harbor). A circular area with a radius of 1,909 yards (1,745 meters), centered in position 33°43′37.0″N, 118°09′05.3″W.

(c) Individual anchorage requirements:

(1) Table 110.214(c) lists anchorage grounds, identifies the purpose of each anchorage, and contains specific regulations applicable to certain anchorages. Requirements for the explosives anchorage are contained in paragraph (d) of this section.

(2) The geographic boundaries of each anchorage are contained in paragraph (b) of this section.

Table 110.214(c)
Anchorage | General location | Purpose | Specific regulations
A | Los Angeles Harbor | Commercial | Note a.
B | Long Beach Harbor | ......do | ......Do.
C | ......do | ......do | Notes a, g.
D | ......do | Commercial & Naval | Notes a, b, g.
E | ......do | Commercial | Note c.
F | Outside Breakwater | ......do | Notes c, g.
G | ......do | ......do | Notes c, d.
N | Los Angeles Harbor | Small Craft | Note e.
P | Long Beach Harbor | ......do | Note f.
Q | ......do | ......do | Notes c, g.
Notes: a. Bunkering and lightering are permitted.
b. West of 118°-09′-48″W priority for use of the anchorage will be given to commercial vessels over 244 meters (approximately 800 feet). East of 118°-09′-48″W priority for use of the anchorage will be given to Naval and Public vessels, vessels under Department of Defense charter, and vessels requiring use of the explosives anchorage.
c. Bunkering and lightering are prohibited.
d. This anchorage is within a Regulated Navigation Area and additional requirements apply as set forth in 33 CFR 165.1109(e).
e. This anchorage is controlled by the Los Angeles Port Police. Anchoring, mooring and recreational boating activities conforming to applicable City of Los Angeles ordinances and regulations are allowed in this anchorage.
f. This anchorage is controlled by the Long Beach Harbor Master. Anchoring, mooring and recreational boating activities conforming to applicable City of Long Beach ordinances and regulations are allowed in this anchorage.
g. When the explosives anchorage is activated portions of this anchorage lie within the explosives anchorage and the requirements of paragraph (d) of this section apply.

(d) Explosives Anchorage (Long Beach Harbor).

(1) Priority for use of this anchorage shall be given to vessels carrying, loading, or unloading division 1.1, 1.2, 1.3, or 1.4 (explosive) materials as defined in 49 CFR 173.50, or Cargoes of Particular Hazard (COPH) as defined in 33 CFR 126.10, or Certain Dangerous Cargoes (CDC) as defined in 33 CFR 160.203.

(2) Vessels requiring the use of this anchorage shall notify the Captain of the Port at least 24 hours in advance of their intentions including the estimated times of arrival, departure, net explosive weight, and whether the vessel will be loading or unloading. Vessels may not use this anchorage without first obtaining a permit issued by the Captain of the Port.

(3) No vessel containing more than 680 metric tons (approximately 749 tons) of net explosive weight (NEW) may anchor in this anchorage;

(4) Bunkering and lightering operations are permitted in the explosives anchorage, except that vessels engaged in the loading or unloading of explosives shall not simultaneously conduct bunkering or lightering operations.

(5) Each anchored vessel loading, unloading or laden with explosives, must display a red flag of at least 1.2 square meters (approximately 16 square feet) in size by day, and at night the flag must be illuminated by spotlight;

(6) When a vessel displaying the red flag occupies the explosives anchorage, no other vessel may anchor within the Explosives Anchorage.

Note: When the explosives anchorage is activated, portions of Anchorages “C”, “D”, “F” and “Q” are encompassed by the explosives anchorage.

Dated: January 3, 2000.
Thomas H. Collins,
Vice Admiral, U.S. Coast Guard, Commander, Eleventh Coast Guard District.

[FR Doc. 00-4745 Filed 2-28-00; 8:45 am]

BILLING CODE 4910-15-U